COMMODITY FUTURES TRADING COMMISSION

Sunshine Act Meetings

TIME AND DATE: 1:00 p.m., Thursday, March 19, 2020.

PLACE: Three Lafayette Centre, 1155 21st Street NW, Washington, DC, 9th Floor Commission Conference Room.

STATUS: Closed.

MATTERS TO BE CONSIDERED: Examinations and enforcement matters. In the event that the time, date, or location of this meeting changes, an announcement of the change, along with the new time, date, and/or place of the meeting will be posted on the Commission's website at http://www.cftc.gov.

CONTACT PERSON FOR MORE INFORMATION: Christopher Kirkpatrick, Secretary of the Commisison, 202-418-5964.

Dated: March 9, 2020.
Robert Sidman,
Deputy Secretary of the Commission.

[FR Doc. 2020-05124 Filed 3-10-20; 11:15 am]

BILLING CODE 6351-01-P